ENVIRONMENTAL PROTECTION AGENCY

40 CFR Part 52

[KY-200404(c); FRL-7636-9]

Approval and Promulgation of Air Quality Implementation Plans; Kentucky Update to Materials Incorporated by Reference; Technical Correction

AGENCY: Environmental Protection Agency (EPA).

ACTION: Final rule; technical correction.

SUMMARY: On January 12, 2004, at 69 FR 1677, EPA published a final rule updating the materials incorporated by reference (IBR) into the Kentucky State Implementation Plan (SIP). This document corrects two errors in the amendatory language in the final rule.

DATES: This correction is effective April 9, 2004.

ADDRESSES: SIP materials which are incorporated by reference into 40 CFR part 52 are available for inspection at the following locations: Environmental Protection Agency, Region 4, 61 Forsyth Street, SW., Atlanta, GA 30303; Office of Air and Radiation Docket and Information Center, Room B-108, 1301 Constitution Avenue, (Mail Code 6102T) NW., Washington, DC 20460; and Office of the Federal Register, 800 North Capitol Street, NW., Suite 700, Washington, DC.

FOR FURTHER INFORMATION CONTACT: Michele Notarianni at the above Region 4 address, by phone at (404) 562-9031, or via e-mail at: notarianni.michele@epa.gov.

SUPPLEMENTARY INFORMATION: EPA published a document on January 12, 2004, (69 FR 1677) which inadvertently excluded paragraph (e) from the list of paragraphs amended in 40 CFR 52.920 under Subpart S-Kentucky. The document also did not clearly state that only “Table 1-EPA-Approved Kentucky Regulations” of paragraph (c) was to be replaced in its entirety, leaving “Table 2-EPA-Approved Jefferson County Regulations for Kentucky” intact. As a result, Table 2 was inadvertently removed from paragraph (c).

This document corrects the erroneous amendatory language and reinstates Table 2 in its entirety. By this action, the amendatory instructions are replaced in their entirety in the final rule published on January 12, 2004, at 69 FR 1677, on page 1678 in the third column, number 2 of Subpart S, Part 52. These amended instructions include paragraph (e) as one of the paragraphs revised in this IBR update to the Kentucky SIP and specify that Table 2 is to be reinstated under paragraph (c). The only change made to Table 2 is a clarification to the rule publication dates in two instances. Under the column, “EPA approval date,” all rule effective date entries of “11/23/01” and “12/19/02” are replaced with the rule publication dates of “10/23/01” and “11/19/02,” respectively. This change is consistent with other entries of this type in the table and makes it easier for the public to reference the respective documents. Also, one correction was made to the title of Regulation 8.03 to insert the word “Requirements” as follows: “Commuter Vehicle Testing Requirements.”

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved state programs. Under section 553 of the APA, an agency may find good cause where procedures are “impractical, unnecessary, or contrary to the public interest.” Public comment is “unnecessary” and “contrary to the public interest” since the codification only reflects existing law. Immediate notice in the CFR benefits the public by updating citations.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 8, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 4, 2004.
A. Stanley Meiburg,
Acting, Regional Administrator, Region 4.

In rule FR Document 04-459 published on January 12, 2004, (69 FR 1677), make the following correction. On page 1678, in the third column, the amendatory instruction 2. to § 52.920 is corrected to read:

2. In § 52.920, paragraphs (b), (c), (d), and (e) are revised to read as follows:

Chapter I, title 40, Code of Federal Regulations, is amended as follows:

PART 52—[AMENDED]

1. The authority for citation for part 52 continues to read as follows:

Authority: 42 U.S.C. 7401 et seq.

Subpart S—Kentucky

2. In § 52.920, add a sentence to the end of paragraph (b)(1) and add Table 2 to paragraph (c) to read as follows:

§ 52.920 Identification of plan.

* * * * *

(b) * * * (1) * * * Entries in paragraph (c), Table 2, with EPA approval dates after October 23, 2001, will be incorporated by reference in the next update to the Jefferson County portion of the Kentucky SIP compilation.

(c) * * *

Table 2.—EPA-Approved Jefferson County Regulations for Kentucky
Reg | Title/subject | EPA approval date | Federal Register notice | District effective date
| Reg 1—General Provisions
1.01 | General Application of Regulations and Standards | 10/23/01 | 66 FR 53660 | 03/17/99
1.02 | Definitions | 11/19/02 | 67 FR 69688 | 12/19/01
1.03 | Abbreviations and Acronyms | 11/19/02 | 67 FR 69688 | 05/15/02
1.04 | Performance Tests | 10/23/01 | 66 FR 53660 | 11/19/97
1.05 | Compliance with Emission Standards and Maintenance Requirements | 10/23/01 | 66 FR 53660 | 11/18/92
1.06 | Source Self-Monitoring and Reporting | 10/23/01 | 66 FR 53660 | 12/15/93
1.07 | Emissions During Startups, Shutdowns, Malfunctions and Emergencies | 10/23/01 | 66 FR 53660 | 01/17/96
1.08 | Administrative Procedures | 11/03/03 | 68 FR 62236 | 06/19/02
1.09 | Prohibition of Air Pollution | 10/23/01 | 66 FR 53660 | 11/16/83
1.10 | Circumvention | 10/23/01 | 66 FR 53660 | 04/19/72
1.11 | Control of Open Burning | 10/23/01 | 66 FR 53660 | 02/22/90
1.14 | Control of Fugitive Particulate Emissions | 10/23/01 | 66 FR 53660 | 01/20/88
1.18 | Rule Effectiveness | 10/23/01 | 66 FR 53689 | 09/21/94
1.19 | Administrative Hearings | 11/19/02 | 67 FR 69688 | 05/15/02
| Reg 2—Permit Requirements
2.01 | General Application | 10/23/01 | 66 FR 53660 | 04/21/82
2.02 | Air Pollution Regulation Requirements and Exemptions | 10/23/01 | 66 FR 53660 | 06/21/95
2.03 | Permit Requirements—Non-Title V Construction and Operating Permits and Demolition/Renovation Permits | 10/23/01 | 66 FR 53660 | 12/15/93
2.04 | Construction or Modification of Major Sources in or Impacting Upon Non-Attainment Areas (Emission Offset Requirements) | 10/23/01 | 66 FR 53660 | 03/17/93
2.05 | Prevention of Significant Deterioration of Air Quality | 11/03/03 | 68 FR 62236 | 06/19/02
2.06 | Permit Requirements—Other Sources | 10/23/01 | 66 FR 53660 | 11/16/83
2.07 | Public Notification for Title V, PSD, and Offset Permits; SIP Revisions; and Use of Emission Reduction Credits | 10/23/01 | 66 FR 53660 | 06/21/95
2.09 | Causes for Permit Suspension | 11/03/03 | 68 FR 62236 | 06/19/02
2.10 | Stack Height Considerations | 10/23/01 | 66 FR 53660 | 07/19/89
2.11 | Air Quality Model Usage | 10/23/01 | 66 FR 53660 | 05/19/99
2.17 | Federally Enforceable District Origin Operating Permits | 11/03/03 | 68 FR 62236 | 06/19/02
| Reg—3 Ambient Air Quality Standards
3.01 | Purpose of Standards and Expression of Non-Degradation Intention | 10/23/01 | 66 FR 53660 | 06/13/79
3.02 | Applicability of Ambient Air Quality Standards | 10/23/01 | 66 FR 53660 | 06/13/79
3.03 | Definitions | 10/23/01 | 66 FR 53660 | 06/13/79
3.04 | Ambient Air Quality Standards | 10/23/01 | 66 FR 53660 | 04/20/88
3.05 | Methods of Measurement | 10/23/01 | 66 FR 53660 | 04/20/88
| Reg—4 Emergency Episodes
4.01 | General Provisions for Emergency Episodes | 10/23/01 | 66 FR 53660 | 06/13/79
4.02 | Episode Criteria | 10/23/01 | 66 FR 53660 | 04/20/88
4.03 | General Abatement Requirements | 10/23/01 | 66 FR 53660 | 02/16/83
4.04 | Particulate and Sulfur Dioxide Reduction Requirements | 10/23/01 | 66 FR 53660 | 04/19/72
4.05 | Hydrocarbon and Nitrogen Oxides Reduction Requirements | 10/23/01 | 66 FR 53660 | 02/16/83
4.06 | Carbon Monoxide Reduction Requirements | 10/23/01 | 66 FR 53660 | 02/16/83
4.07 | Episode Reporting Requirements | 10/23/01 | 66 FR 53660 | 06/13/79
| Reg—6 Standards of Performance for Existing Affected Facilities
6.01 | General Provisions | 10/23/01 | 66 FR 53660 | 11/16/83
6.02 | Emission Monitoring for Existing Sources | 10/23/01 | 66 FR 53660 | 11/16/83
6.07 | Standards of Performance for Existing Indirect Heat Exchangers | 10/23/01 | 66 FR 53660 | 06/13/79
6.08 | Standard of Performance for Existing Incinerators | 10/23/01 | 66 FR 53660 | 06/13/79
6.09 | Standards of Performance for Existing Process Operations | 10/23/01 | 66 FR 53660 | 03/17/99
6.10 | Standard of Performance for Existing Process Gas Streams | 10/23/01 | 66 FR 53660 | 11/16/83
6.12 | Standard of Performance for Existing Asphalt Paving Operations | 10/23/01 | 66 FR 53661 | 05/15/91
6.13 | Standard of Performance for Existing Storage Vessels for Volatile Organic Compounds | 10/23/01 | 66 FR 53661 | 05/15/91
6.14 | Standard of Performance for Selected Existing Petroleum Refining Processes and Equipment | 10/23/01 | 66 FR 53661 | 04/21/82
6.15 | Standard of Performance for Gasoline Transfer to Existing Service Station Storage Tanks (Stage I Vapor Recovery) | 01/25/80 | 45 FR 6092 | 06/13/79
6.16 | Standard of Performance for Existing Large Appliance Surface Coating Operations | 10/23/01 | 66 FR 53661 | 05/15/91
6.17 | Standard of Performance for Existing Automobile and Truck Surface Coating Operations | 10/23/01 | 66 FR 53661 | 11/18/92
6.18 | Standards of Performance for Existing Solvent Metal Cleaning Equipment | 11/19/02 | 67 FR 69688 | 05/15/02
6.19 | Standard of Performance for Existing Metal Furniture Surface Coating Operations | 10/23/01 | 66 FR 53661 | 05/15/91
6.20 | Standard of Performance for Existing Bulk Gasoline Plants | 10/23/01 | 66 FR 53661 | 11/16/83
6.21 | Standard of Performance for Existing Gasoline Loading Facilities at Bulk Terminals | 10/23/01 | 66 FR 53661 | 11/16/83
6.22 | Standard of Performance for Existing Volatile Organic Materials Loading Facilities | 10/23/01 | 66 FR 53661 | 03/17/93
6.24 | Standard of Performance for Existing Sources Using Organic Materials | 10/23/01 | 66 FR 53661 | 03/17/93
6.26 | Standards of Performance for Existing Volatile Organic Compound Water Separators | 10/23/01 | 66 FR 53661 | 06/13/79
6.27 | Standards of Performance For Existing Liquid Waste Incinerators | 10/23/01 | 66 FR 53661 | 06/13/79
6.28 | Standard of Performance for Existing Hot Air Aluminum Atomization Processes | 10/23/01 | 66 FR 53661 | 03/18/81
6.29 | Standard of Performance for Existing Graphic Arts Facilities Using Rotogravure and Flexography | 10/23/01 | 66 FR 53661 | 05/15/91
6.30 | Standard of Performance for Existing Factory Surface Coating Operations of Flat Wood Paneling | 10/23/01 | 66 FR 53661 | 05/15/91
6.31 | Standard of Performance for Existing Miscellaneous Metal Parts and Products Surface-Coating Operations | 10/23/01 | 66 FR 53661 | 04/23/96
6.32 | Standard of Performance for Leaks from Existing Petroleum Refinery Equipment | 10/23/01 | 66 FR 53661 | 05/15/91
6.33 | Standard of Performance for Existing Synthesized Pharmaceutical Product Manufacturing Operations | 10/23/01 | 66 FR 53661 | 05/15/91
6.34 | Standard of Performance for Existing Pneumatic Rubber Tire Manufacturing Plants | 10/23/01 | 66 FR 53661 | 05/15/91
6.35 | Standard of Performance for Existing Fabric, Vinyl and Paper Surface Coating Operations | 10/23/01 | 66 FR 53661 | 05/15/91
6.38 | Standard of Performance for Existing Air Oxidation Processes in Synthetic Organic Chemical Manufacturing Industries | 10/23/01 | 66 FR 53661 | 12/17/86
6.39 | Standard of Performance for Equipment Leaks of Volatile Organic Compounds in Existing Synthetic Organic Chemical and Polymer Manufacturing Plants | 10/23/01 | 66 FR 53661 | 07/17/96
6.40 | Standards of Performance for Gasoline Transfer to Motor Vehicles (Stage II Vapor Recovery and Control) | 10/23/01 | 66 FR 53661 | 08/18/93
6.42 | Reasonably Available Control Technology Requirements for Major Volatile Organic Compound- and Nitrogen Oxides-Emitting Facilities | 10/23/01 | 66 FR 53661 | 03/17/99
6.43 | Volatile Organic Compound Reduction Requirements | 10/23/01 | 66 FR 53689 | 05/21/97
6.45 | Standards of Performance for Existing Solid Waste Landfills | 10/23/01 | 66 FR 53689 | 02/02/94
6.44 | Standards of Performance for Existing Commercial Motor Vehicle and Mobile Equipment Refinishing Operations | 10/23/01 | 66 FR 53661 | 09/20/95
6.46 | Standards of Performance for Existing Ferroalloy and Calcium Carbide Production Facilities | 10/23/01 | 66 FR 53661 | 12/21/94
6.48 | Standard of Performance for Existing Bakery Oven Operations | 10/23/01 | 66 FR 53661 | 07/19/95
6.49 | Standards of Performance for Reactor Processes and Distillation Operations Processes in the Synthetic Organic Chemical Manufacturing Industry | 10/23/01 | 66 FR 53664 | 06/20/01
6.50 | NOX Requirements for Portland Cement Kilns | 11/19/02 | 67 FR 69688 | 03/20/02
| Reg 7—Standards of Performance for New Affected Facilities
7.01 | General Provisions | 10/23/01 | 66 FR 53661 | 05/17/00
7.06 | Standards of Performance for New Indirect Heat Exchangers | 10/23/01 | 66 FR 53661 | 04/21/82
7.07 | Standard of Performance for New Incinerators | 10/23/01 | 66 FR 53661 | 09/15/93
7.08 | Standards of Performance for New Process Operations | 10/23/01 | 66 FR 53661 | 03/17/99
7.09 | Standards of Performance for New Process Gas Streams | 10/23/01 | 66 FR 53661 | 06/18/97
7.11 | Standard of Performance for New Asphalt Paving Operations | 10/23/01 | 66 FR 53661 | 05/15/91
7.12 | Standard of Performance for New Storage Vessels for Volatile Organic Compounds | 10/23/01 | 66 FR 53661 | 05/15/91
7.14 | Standard of Performance for Selected New Petroleum Refining Processes and Equipment | 10/23/01 | 66 FR 53661 | 06/13/79
7.15 | Standards of Performance for Gasoline Transfer to New Service Station Storage Tanks (Stage I Vapor Recovery) | 10/23/01 | 66 FR 53662 | 04/20/88
7.18 | Standards of Performance for New Solvent Metal Cleaning Equipment | 10/23/01 | 66 FR 53662 | 05/15/91
7.20 | Standard of Performance for New Gasoline Loading Facilities at Bulk Plants | 10/23/01 | 66 FR 53662 | 11/16/83
7.22 | Standard of Performance for New Volatile Organic Materials Loading Facilities | 10/23/01 | 66 FR 53662 | 03/17/93
7.25 | Standard of Performance for New Sources Using Volatile Organic Compounds | 10/23/01 | 66 FR 53662 | 03/17/93
7.34 | Standard of Performance for New Sulfite Pulp Mills | 10/23/01 | 66 FR 53662 | 06/13/79
7.35 | Standard of Performance for New Ethylene Producing Plants | 10/23/01 | 66 FR 53662 | 06/13/79
7.36 | Standard of Performance for New Volatile Organic Compound Water Separators | 10/23/01 | 66 FR 53662 | 06/13/79
7.51 | Standard of Performance for New Liquid Waste Incinerators | 10/23/01 | 66 FR 53662 | 01/20/88
7.52 | Standard of Performance for New Fabric, Vinyl, and Paper Surface Coating Operations | 10/23/01 | 66 FR 53662 | 05/15/91
7.55 | Standard of Performance for New Insulation of Magnet Wire | 10/23/01 | 66 FR 53662 | 03/17/93
7.56 | Standard of Performance for Leaks from New Petroleum Refinery Equipment | 10/23/01 | 66 FR 53662 | 05/15/91
7.57 | Standard of Performance for New Graphic Arts Facilities Using Rotogravure and Flexography | 10/23/01 | 66 FR 53662 | 05/15/91
7.58 | Standard of Performance for New Factory Surface Coating Operations of Flat Wood Paneling | 10/23/01 | 66 FR 53662 | 05/15/91
7.59 | Standard of Performance for New Miscellaneous Metal Parts and Products Surface Coating Operations | 10/23/01 | 66 FR 53662 | 04/23/96
7.60 | Standard of Performance for New Synthesized Pharmaceutical Product Manufacturing Operations | 10/23/01 | 66 FR 53662 | 05/15/91
7.77 | Standards of Performance for New Blast Furnace Casthouses | 10/23/01 | 66 FR 53662 | 10/20/93
7.79 | Standards of Performance for New Commercial Motor Vehicles and Mobile Equipment Refinishing Operations | 10/23/01 | 66 FR 53690 | 02/02/94
7.81 | Standard of Performance for New or Modified Bakery Oven Operations | 10/23/01 | 66 FR 53662 | 05/17/00
| Reg 8—Mobile Source Emissions Control
8.01 | Mobile Source Emissions Control Requirements | 09/24/02 | 67 FR 59785 | 11/21/01
8.02 | Vehicle Emissions Testing Procedure | 09/24/02 | 67 FR 59785 | 11/21/01
8.03 | Commuter Vehicle Testing Requirements | 10/23/01 | 66 FR 53690 | 02/02/94

* * * * *

[FR Doc. 04-5877 Filed 4-8-04; 8:45 am]

BILLING CODE 6560-50-P